DEPARTMENT OF HOMELAND SECURITY

Federal Emergency Management Agency

44 CFR Part 67

[Docket ID FEMA-2011-0002; Internal Agency Docket No. FEMA-B-1214]

Proposed Flood Elevation Determinations

AGENCY: Federal Emergency Management Agency, DHS.

ACTION: Proposed rule; correction.

SUMMARY: On September 14, 2011, FEMA published in the Federal Register a proposed rule that contained an erroneous table. This notice provides corrections to that table, to be used in lieu of the information published at 76 FR 56724. The table provided here represents the flooding sources, location of referenced elevations, effective and modified elevations, and communities affected for Rockland County, New York (All Jurisdictions). Specifically, it addresses the following flooding sources: Demarest Kill, East Branch Hackensack River, Golf Course Brook, Hackensack River, Hudson River, Minisceongo Creek, Nauraushaun Brook, North Branch Pascack Brook, Pascack Brook, Sparkill Creek, West Branch Hackensack River, and West Branch Saddle River.

DATES: Comments are to be submitted on or before February 5, 2013.

ADDRESSES: You may submit comments, identified by Docket No. FEMA-B-1214, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 76 FR 56724, in the September 14, 2011, issue of the Federal Register, FEMA published a table under the authority of 44 CFR 67.4. The table, entitled “Rockland County, New York (All Jurisdictions)” addressed the following flooding sources: Demarest Kill, East Branch Hackensack River, Golf Course Brook, Hackensack River, Minisceongo Creek, Nauraushaun Brook, North Branch Pascack Brook, Pascack Brook, Sparkill Creek, West Branch Hackensack River, and West Branch Saddle River. That table did not include the flooding source Hudson River. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Rockland County, New York (All Jurisdictions)
Demarest Kill | At the West Branch Hackensack River confluence | +95 | +98 | Town of Clarkstown.
| At the upstream side of Little Tor Road | +248 | +247
East Branch Hackensack River | At the upstream side of Old Mill Road | +86 | +88 | Town of Clarkstown.
| Approximately 600 feet downstream of Rockland Lake | +150 | +151
Golf Course Brook | At the upstream side of Nottingham Drive | +325 | +326 | Village of Montebello.
| At the upstream side of Spook Rock Road | +491 | +492
Hackensack River | At the Town of Orangetown/Town of Clarkstown corporate limit | +59 | +58 | Town of Clarkstown, Town of Orangetown.
| At the downstream side of Old Mill Road | +67 | +66
Hudson River | At the Village of Upper Nyack/Village of Nyack corporate limit | None | +7 | Village of Upper Nyack.
| At the Village of Upper Nyack/Town of Clarkstown corporate limit | None | +7
Minisceongo Creek | At the upstream side of the dam (near Gagan Road) | +10 | +11 | Town of Haverstraw, Village of Haverstraw, Village of West Haverstraw.
| Approximately 1,000 feet upstream of Thiels Ivy Road | None | +349
Nauraushaun Brook | At the Hackensack River confluence | +55 | +57 | Town of Clarkstown, Town of Orangetown.
| Approximately 200 feet upstream of Smith Road | +295 | +297
North Branch Pascack Brook | At the Pascack Brook confluence | +350 | +351 | Town of Ramapo, Town of Clarkstown, Village of New Hempstead, Village of New Square, Village of Spring Valley.
| Approximately 250 feet upstream of Greenridge Way | +514 | +513
Pascack Brook | At the New Jersey state boundary | +202 | +207 | Town of Ramapo, Town of Clarkstown, Town of Orangetown, Village of Chestnut Ridge, Village of Kaser, Village of Spring Valley.
| At the downstream side of Grosser Lane | +580 | +578
Sparkill Creek | Approximately 350 feet downstream of Rock Road | +13 | +14 | Village of Piermont, Town of Orangetown.
| At the upstream side of Erie Street | +123 | +124
West Branch Hackensack River | At the upstream side of Ridge Road | +87 | +88 | Town of Clarkstown.
| At the Town of Ramapo corporate limit | +297 | +290
West Branch Saddle River | At the upstream side of the New Jersey state boundary | +324 | +325 | Town of Ramapo, Village of Airmont.
| Approximately 280 feet upstream of Olympia Lane | +533 | +530
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Clarkstown
Maps are available for inspection at the Clarkstown Town Hall, 10 Maple Avenue, New City, NY 10956.
Town of Haverstraw
Maps are available for inspection at the Haverstraw Town Hall, 1 Rosman Road, Garnerville, NY 10923.
Town of Orangetown
Maps are available for inspection at the Town of Orangetown Building Department, 20 Greenbush Road, Orangeburg, NY 10962.
Town of Ramapo
Maps are available for inspection at the Ramapo Town Hall, 237 State Route 59, Suffern, NY 10901.
Village of Airmont
Maps are available for inspection at the Village Hall, 251 Cherry Lane, Airmont, NY 10982.
Village of Chestnut Ridge
Maps are available for inspection at the Village Hall, 277 Old Nyack Turnpike, Chestnut Ridge, NY 10977.
Village of Haverstraw
Maps are available for inspection at the Haverstraw Village Hall, 40 New Main Street, Haverstraw, NY 10927.
Village of Kaser
Maps are available for inspection at the Kaser Village Hall, 15 Elyon Road, Monsey, NY 10952.
Village of Montebello
Maps are available for inspection at the Village Hall, 1 Montebello Road, Montebello, NY 10901.
Village of New Hempstead
Maps are available for inspection at the New Hempstead Village Hall, 108 Old Schoolhouse Road, New City, NY 10956.
Village of New Square
Maps are available for inspection at the Village Hall, 766 North Main Street, New Square, NY 10977.
Village of Piermont
Maps are available for inspection at the Village Hall, 478 Piermont Avenue, Piermont, NY 10968.
Village of Spring Valley
Maps are available for inspection at the Village Hall, 200 North Main Street, Spring Valley, NY 10977.
Village of Upper Nyack
Maps are available for inspection at the Village Hall, 328 North Broadway, Upper Nyack, NY 10960.
Village of West Haverstraw
Maps are available for inspection at the Village Hall, 130 Samsondale Avenue, West Haverstraw, NY 10993.

(Catalog of Federal Domestic Assistance No. 97.022, “Flood Insurance.”)

Dated: October 12, 2012.
James A. Walke,
Acting Deputy Associate Administrator for Mitigation, Department of Homeland Security, Federal Emergency Management Agency.

[FR Doc. 2012-27117 Filed 11-6-12; 8:45 am]

BILLING CODE 9110-12-P